DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on September 26, 2001 [66 FR 49253-49254].

DATES: Comments must be submitted on or before February 27, 2002.

FOR FURTHER INFORMATION CONTACT: Louis Molino at the National Highway Traffic Safety Administration, Office of Safety Performance Standards (NPS-20), 202-366-1833. 400 Seventh Street, SW., Room 6240, Washington, DC 20590.

SUPPLEMENTARY INFORMATION:

National Highway Traffic Safety Administration

Title: Part 585—Advanced Air Bag Phase-In Reporting Requirement.

OMB Number: 2127-0599.

Type of Request: Extension of a currently approved collection.

Abstract: 49 U.S.C. 30111, 30112, and 30117 authorize the issuance of Federal Motor Vehicle Safety Standards (FMVSS) and the collection of data, which support their implementation. Using this authority, the agency issued a modification to FMVSS 208, Occupant Crash Protection, to require advanced air bags in accordance with the Transportation Equity Act of the 21st Century (TEA 21), which was enacted by the United States Congress in 1998.

A two-stage phase-in is included in FMVSS 208 to allow for the introduction of advanced air bags. Manufacturers must equip a certain percentage of their new vehicle fleets with advanced air bags and report their production to NHTSA. Each report will contain, in addition to the identity, addresses, etc., several numerical items of information. The information includes, but is not limited to, the following items.

Total number of vehicles manufactured for sale during the preceding production year; and total number of vehicles manufactured during the production year that are in compliance with the regulatory requirements.

Affected Public: Business of other for profit organizations.

Estimated Total Annual Burden: 1,260

ADDRESSES: Send comments, within 30 days, to the Office of Information and Regulatory Affairs, Office of Management and Budget, 725-17th Street, NW, Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on January 18, 2002.
Delmas Johnson,
Associate Administrator for Administration.

[FR Doc. 02-2040 Filed 1-25-02; 8:45 am]

BILLING CODE 4910-59-P